DEPARTMENT OF AGRICULTURE

Rural Utilities Service

South Texas Electric Cooperative, Inc.; Notice of Finding of No Significant Impact

AGENCY: Rural Utilities Service, USDA.

ACTION: Notice of finding of no significant impact.

SUMMARY: Notice is hereby given that the Rural Utilities Service (RUS) has made a finding of no significant impact (FONSI) with respect to a request from South Texas Electric Cooperative (STEC) for assistance from RUS to finance the construction and operation of a 177 MW combined-cycle combustion turbine generation facility in Victoria County, Texas.

FOR FURTHER INFORMATION CONTACT: Dennis E. Rankin, Environmental Protection Specialist, RUS, Engineering and Environmental Staff, Stop 1571, 1400 Independence Avenue, SW., Washington, DC 20250-1571, telephone: (202) 720-1953 or e-mail: drankin@rus.usda.gov.

SUPPLEMENTARY INFORMATION: STEC is proposing to construct a combined-cycle combustion turbine generation plant at the existing Sam Rayburn Plant which is located in Nursery, Texas. The 177 MW capacity project would consist of three combustion turbine units connected to a single combined-cycle unit. Approximately 5.5 acres of the existing site will be needed for the proposed project. The existing plant infrastructure will be utilized for this new generation addition including existing gas lines, cooling water ponds and switchyard.

Copies of the Environmental Assessment and FONSI are available for review at, or can be obtained from, RUS at the address provided herein, or from Mr. John Packard, STEC, FM 447, Nursery, Texas 77976, telephone: (361) 575-6491.

Dated: November 26, 2001.
Blaine D. Stockton,
Assistant Administrator, Electric Program, Rural Utilities Service.

[FR Doc. 01-29877 Filed 11-30-01; 8:45 am]

BILLING CODE 3410-15-P